DEPARTMENT OF THE INTERIOR

Fish and Wildlife Service

[Docket No. FWS-R1-ES-2022-0074; ES11140100000-245-FF01E0000]

Record of Decision for the Barred Owl Management Strategy; Washington, Oregon, and California

AGENCY: Fish and Wildlife Service, Interior.

ACTION: Notice of availability; record of decision.

SUMMARY: The U.S. Fish and Wildlife Service (Service) announces the availability of a record of decision (ROD) for the final environmental impact statement for the Barred Owl Management Strategy (strategy) in Washington, Oregon, and California. With this notice, we also make available the final strategy. The ROD documents the Service's decision to select the preferred alternative to address the threat that the nonnative and invasive barred owl (Strix varia) poses to the northern spotted owl (Strix occidentalis caurina) and the California spotted owl (Strix occidentalis occidentalis).

ADDRESSES: You may obtain copies of the ROD and other documents associated with the decision by any of the following methods:

• Internet: https://www.regulations.gov (search for Docket No. FWS-R1-ES-2022-0074) or at https://www.fws.gov/project/barred-owl-management.

• Upon Request: You may request alternative formats of the documents directly from the Service (see FOR FURTHER INFORMATION CONTACT).

FOR FURTHER INFORMATION CONTACT: Robin Bown, U.S. Fish and Wildlife Office, Oregon Fish and Wildlife Office, by telephone at 503-231-6923, or by email at robin_bown@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The U.S. Fish and Wildlife Service (Service) announces the availability of its record of decision (ROD) for the final environmental impact statement (EIS) for the Barred Owl Management Strategy (strategy) in Washington, Oregon, and California developed in compliance with agency decision-making requirements of the National Environmental Policy Act of 1969, as amended (NEPA). Implementation of the selected strategy focuses on the removal of the nonnative and invasive barred owl populations in identified management areas in Washington, Oregon, and California. Where barred owls are in the early stages of invasion, such as in the California spotted owl's range, the strategy allows for removal of all barred owls in order to prevent establishment of barred owl populations. The barred owl is protected under the Migratory Bird Treaty Act (MBTA; 16 U.S.C. 703-712), which prohibits take of protected migratory bird species unless authorized by the Service through permit or regulation (50 CFR 21.10). This decision includes issuance of a Migratory Bird Special Purpose permit under the Migratory Bird Treaty Act (MBTA).

Spotted owls are native to western North America. Competition from barred owls (Strix varia) has been identified as a primary threat to the northern spotted owl (Strix occidentalis caurina), which is listed as threatened under the Endangered Species Act (ESA; 16 U.S.C. 1531 et seq.), as well as a threat to the persistence of California spotted owl (Strix occidentalis occidentalis), which the Service has proposed for listing (88 FR 11600; February 23, 2023). Barred owls, native to eastern North America, began to expand their range around 1900 as a likely result of European settlement. Barred owls are larger and more aggressive than the northern spotted owl and the California spotted owl. Upon reaching the Pacific Northwest, barred owls displaced spotted owls from their historic territories. Without management of barred owls, extirpation of northern spotted owls from major portions of their historic range is likely in the near future. While barred owls have not substantially impacted California spotted owl populations to date, the establishment of a small barred owl population in the northern Sierra Nevada mountains, and the history of the invasion and impacts on northern spotted owls following such expansion, demonstrates that barred owls are also a significant threat to the persistence of California spotted owls. The purpose of this action is to reduce barred owl populations to improve the survival and recovery of northern spotted owls and to prevent declines in California spotted owls from barred owl competition.

The Service published a notice of intent (NOI) in the Federal Register to develop an EIS for this project on July 22, 2022 (87 FR 43886). The Service published a notice of availability (NOA) for the draft EIS on November 17, 2023 (88 FR 80329) and published an NOA for the final EIS on July 5, 2024 (89 FR 55647). The EIS analyzed the environmental consequences of the preferred action (Alternative 2, Management Strategy Implementation), a no action alternative, and four alternatives to the preferred action outlining different management frameworks for entities (Federal, State or Tribal government agencies, or private landowners) to implement barred owl management. All action alternatives included issuance of an MBTA Special Purpose permit for management to reduce barred owl populations in areas within the northern spotted owl's range and to prevent establishment of barred owl populations within the California spotted owl's range.

We are advising the public of the availability of the ROD, documenting the Service's decision to issue a Migratory Bird Special Purpose permit pursuant to the MBTA under EIS, Alternative 2, Management Strategy Implementation (Preferred Alternative). Alternative 2 combines three approaches to barred owl management within the northern spotted owl's range and focuses on early detection and rapid response in the California spotted owl's range. Alternative 2 best accomplishes the purpose and need for action because it will allow for rapid implementation of barred owl management on specific areas across the range of the northern spotted owl in a manner that allows for a swift reduction in barred owl numbers and the impact of barred owls within these targeted management areas. The focus in Alternative 2 on location and removal of all barred owls in the range of the California spotted owl and associated invasion pathways will also limit the invasion of barred owls and allow for removal of those individuals that succeed in establishing territories in the subspecies' range.

The Service has prepared this ROD pursuant to the Council on Environmental Quality's (CEQ's) implementing NEPA regulations at 40 CFR parts 1500-1508, which became effective on May 20, 2022 (87 FR 23453; April 20, 2022). Because the Service published a notice of intent (NOI) to develop an EIS for this project on July 22, 2022, prior to the July 1, 2024, effective date for the Council on Environmental Quality's updated NEPA regulations, the draft EIS, final EIS, and ROD were prepared according to the 2022 regulations.

Authority

We provide this notice in accordance with the requirements of NEPA and its implementing regulations (40 CFR 1503.1 and 1506.6).

Hugh Morrison,
Regional Director, Pacific Region.

[FR Doc. 2024-20073 Filed 9-5-24; 8:45 am]

BILLING CODE 4333-15-P